FEDERAL MARITIME COMMISSION

46 CFR Part 515

[Docket No. 18-11]

RIN 3072-AC73

Amendments to Regulations Governing Licensing, Financial Responsibility Requirements, and General Duties for Ocean Transportation Intermediaries

AGENCY: Federal Maritime Commission.

ACTION: Notice of proposed rulemaking; reopening of comment period.

SUMMARY: In a proposed rule published in the Federal Register on December 17, 2018, the Federal Maritime Commission proposed to amend its rules governing licensing, financial responsibility requirements, and general duties for ocean transportation intermediaries (OTIs). The proposed changes are mainly administrative and procedural. This notice reopens the comment period which concluded on January 18, 2019.

DATES: Comments on the proposed rule published December 17, 2018 (83 FR 64502) are due on or before February 22, 2019.

ADDRESSES: You may submit comments by the following methods:

• Email: secretary@fmc.gov.

• Mail: Rachel E. Dickon, Secretary, Federal Maritime Commission, 800 North Capitol Street NW, Washington, DC 20573-0001.

FOR FURTHER INFORMATION CONTACT: Rachel E. Dickon, Secretary. Phone: (202) 523-5725. Email: secretary@fmc.gov.

Rachel Dickon,
Secretary.

[FR Doc. 2019-01177 Filed 2-5-19; 8:45 am]

BILLING CODE 6731-AA-P